DEPARTMENT OF COMMERCE

International Trade Administration

[A-570-875]

Non-Malleable Cast Iron Pipe Fittings from the People's Republic of China: Notice of Partial Rescission of Antidumping Duty Administrative Review

AGENCY: Import Administration, International Trade Administration, Department of Commerce.

SUMMARY: On May 31, 2006, the Department of Commerce (“the Department”) initiated the third administrative review of the antidumping duty order on non-malleable cast iron pipe fittings from the People's Republic of China (“PRC”) covering the period April 1, 2005, through March 31, 2006. See Initiation of Antidumping and Countervailing Duty Administrative Reviews and Request for Revocation in Part, 71 FR 30864 (May 31, 2006) (“Initiation Notice”). On July 25, 2006, the review request was withdrawn with respect to two parties. Therefore, the Department is partially rescinding the administrative review of sales of non-malleable cast iron pipe fittings with respect to the entities for whom the review requests have been withdrawn.

EFFECTIVE DATE: September 22, 2006.

FOR FURTHER INFORMATION CONTACT: Hilary E. Sadler, Esq., AD/CVD Operations, Office 8, Import Administration, International Trade Administration, U.S. Department of Commerce, 14th Street and Constitution Avenue, NW, Room 4416, Washington, DC 20230; telephone: (202) 482-4340.

SUPPLEMENTARY INFORMATION:

Background

On April 3, 2006, the Department published a notice of opportunity to request an administrative review of the antidumping duty order on non-malleable cast iron pipe fittings from the PRC for the period April 1, 2005 through March 31, 2006. See Antidumping or Countervailing Duty Order, Finding, or Suspended Investigation; Opportunity to Request Administrative Review, 71 FR 16549 (April 3, 2006). On April 21, 2006, Myland Industrial Co., Ltd. (“Myland”) and Buxin Myland (Foundry) Ltd. (“Buxin”) requested an administrative review of their sales to the United States during the period of review (“POR”) of merchandise produced by Buxin and exported by Myland. On April 28, 2006, Ward Manufacturing, Inc. (“Ward”), a domestic producer of non-malleable cast iron pipe fittings, requested an administrative review of the sales to the United States during the POR of merchandise produced and/or exported by Jinan Meide Corporation (“JMC”) and SFTEC. Pursuant to these requests, the Department initiated an administrative review of the antidumping duty order on non-malleable cast iron pipe fittings from the PRC. See Initiation Notice. On July 25, 2006, Ward timely withdrew its request for an administrative review of non-malleable cast iron pipe fittings from the PRC regarding merchandise produced and/or exported by JMC and SFTEC.

Partial Rescission of Review

Pursuant to 19 CFR 351.213(d)(1), the Department will rescind an administrative review, in whole or in part, if a party that requested a review withdraws the request within 90 days of the date of publication of the notice of initiation. In this case, Ward withdrew its request for an administrative review of JMC and SFTEC within 90 days from the date of initiation. No other interested party requested a review of JMC and SFTEC. Therefore, the Department is rescinding this review with respect to JMC and SFTEC, in accordance with 19 CFR 351.213(d)(1). The review will continue with respect to Myland and Buxin.

Assessment

The Department will instruct U.S. Customs and Border Protection (“CBP”) to assess antidumping duties on all appropriate entries for JMC and SFTEC. Antidumping duties shall be assessed at rates equal to the cash deposit of estimated antidumping duties required at the time of entry, or withdrawal from warehouse, for consumption, in accordance with 19 CFR 351.212(c)(1)(i). The Department will issue appropriate assessment instructions directly to CBP within 15 days of publication of this notice in the Federal Register.

Notification to Importers

This notice serves as a final reminder to importers of their responsibility under 19 CFR 351.402(f) to file a certificate regarding the reimbursement of antidumping duties prior to liquidation of the relevant entries during this review period. Failure to comply with this requirement could result in the Secretary's assumption that reimbursement of antidumping duties occurred and subsequent assessment of double antidumping duties.

Notification Regarding Administrative Protective Orders (“APOs”)

This notice also serves as a reminder to parties subject to APOs of their responsibility concerning the return or destruction of proprietary information disclosed under an APO in accordance with 19 CFR 351.305, which continues to govern business proprietary information in this segment of the proceeding. Timely written notification of the return/destruction of APO materials or conversion to judicial protective order is hereby requested. Failure to comply with the regulations and terms of an APO is a violation which is subject to sanction.

This notice is in accordance with section 777(i)(1) of the Tariff Act of 1930, as amended, and 19 CFR 351.213(d)(4) of the Department's regulations.

Dated: September 11, 2006.
Stephen J. Claeys,
Deputy Assistant Secretary for Import Administration.

[FR Doc. 06-8075 Filed 9-21-06; 8:45 am]

BILLING CODE 3510-DS-S